OFFICE OF PERSONNEL MANAGEMENT

5 CFR Part 900

Certifying the Use of a Merit Personnel System as Required by the Intergovernmental Personnel Act of 1970

AGENCY: Office of Personnel Management.

ACTION: Guidance.

SUMMARY: The Office of Personnel Management (OPM) is revising guidance issued on April 19, 2019, regarding the available range of staffing options for federally funded and state-administered low-income programs that are required to comply with the Intergovernmental Personnel Act of 1970 (IPA) and its implementing regulations.

DATES: Effective June 10, 2024.

FOR FURTHER INFORMATION CONTACT: For questions, please contact Latonia Page, Deputy Associate Director, Workforce Policy and Innovation, Talent Acquisition, Classification, and Veterans Programs at employ@opm.gov or 202-936-3459.

SUPPLEMENTARY INFORMATION: Pursuant to 5 CFR 900.604(b)(3), OPM is tasked with responding to requests for guidance regarding compliance with the Intergovernmental Personnel Act of 1970 (IPA) and its implementing regulations. When a federally funded program requires state and local agencies to establish a merit personnel system in order to receive funds, the IPA and the regulations in 5 CFR part 900, subpart F, are applicable. These regulations establish the standards that must be included in a merit personnel system when it is certified by a state or local agency. OPM's current guidance issued at 84 FR 16381 (April 19, 2019) states that “[t]he IPA and the regulations do not prescribe the use of a particular staffing method such as utilizing state or contract employees. In the absence of any other statutory or regulatory requirement to use a specific staffing method, the state or local agency has the discretion to determine the most appropriate staffing method. Regardless of the staffing method chosen, the state or local agency must certify that it is using a merit personnel system that meets the standards outlined in 5 CFR 900.603.”

OPM has reviewed its 2019 guidance and is updating it in accordance with the recent recommendations of the White House Task Force on Worker Organizing and Empowerment, established by E.O. 14025 titled, “Executive Order on Worker Organizing and Empowerment.” The White House Task Force recommended that state and local government agencies that receive Federal grants be limited to utilizing state and local government personnel in the administration of the grant-aided program. OPM agrees with implementing this recommendation and is therefore revising its guidance accordingly. To the extent that any state or local governments relied upon OPM's 2019 guidance on this matter and began utilizing contract employees to administer federally funded programs, these states should take steps to transition to utilizing state or local government employees to administer such programs at the earliest opportunity when it is feasible to do so. Until this happens, state and local governments must continue to certify they are using a merit personnel system that meets the standards outlined in section 5 CFR 900.603, regardless of the staffing model they are using to administer federally funded programs.

Office of Personnel Management.
Kayyonne Marston,
Federal Register Liaison.

[FR Doc. 2024-12656 Filed 6-7-24; 8:45 am]

BILLING CODE 6325-39-P